FEDERAL MARITIME COMMISSION

Ocean Transportation Intermediary License Applicants

Notice is hereby given that the following applicants have filed with the Federal Maritime Commission an application for license as a Non-Vessel Operating Common Carrier and Ocean Freight Forwarder-Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier and Ocean Freight Forwarder Transportation Intermediary Applicants:

Overseas Container Forwarding, Inc., 6804 Perry Ave., SE., Auburn, WA 98092. Officers: Ben M. Bain, Vice President (Qualifying Individual), Peter W. Hilton, President.

HADDAD, 1 Deavon Court, Monroe Township, NJ 08831, Nabeel A. Elhaddad, Sole Proprietor.

Coreana Express (Sea-Tac) Inc., 930 South 336th Street, Federal Way, WA 98003. Officers: Sung-Hyun Yun, Manager (Qualifying Individual). Kang-Ho Lee, President.

World International Logistics, Inc., 139 NW 45th Ave., Opa Locka, FL 33054. Officers: Bassam Mourad, President (Qualifying Individual). Maurice Mrad, Vice President.

Prisa International, Inc., 516 SW 147 Terrace, Pembroke Pines, FL 33027. Officers: Prinz Echevers, President (Qualifying Individual), Isabel C. Sierra, Vice President.

FERM Holdings, Inc., 6510 NW 84 Avenue, Miami, FL 33166. Officers: Norman R. Jackson, President (Qualifying Individual). Fran D. Jackson, Vice President.

Topp Cargo & Logistics, LLC, 2209 NW 79th Avenue, Doral, FL 33126. Officers: Carlos F. Aidunate, Vice President (Qualifying Individual), Robert D. Rubin, President.

Ocean Freight Forwarder—Ocean Transportation Intermediary Applicants:

Taino Express Cargo, Inc., 4406 NW 74th Avenue, Miami, FL 33168. Officers: Jose L. Montero (Qualifying Individual), Ivan Montero, President.

J & V International Shipping Corp., 806 Arcadia Ave., Arcadia, CA 91007. Officer: Vivian W. Liu, President (Qualifying Individual).

Dated: March 14, 2008.
Karen V. Gregory,
Assistant Secretary.

[FR Doc. E8-5547 Filed 3-18-08; 8:45 am]

BILLING CODE 6730-01-P